TENNESSEE VALLEY AUTHORITY

18 CFR Part 1301

Privacy Act Regulations; Correction

Correction

In rule document 2017-24300, appearing on pages 51757-51758 in the issue of Wednesday, November 8, 2017, make the following correction:

On page 51757 in the second column, remove Amendatory instruction 2.

Dates: This correction is effective on November 8, 2017.

[FR Doc. C1-2017-24300 Filed 11-9-17; 4:15 pm]

BILLING CODE 1301-00-D